DEPARTMENT OF HEALTH AND HUMAN SERVICES

National Institutes of Health

National Institute of Allergy and Infectious Diseases; Amended Notice of Meeting

Notice is hereby given of a change in the meeting of the National Institute of Allergy and Infectious Diseases Special Emphasis Panel, October 23, 2013, 08:00 a.m. to October 24, 2013, 06:00 p.m., Hyatt Regency Bethesda, One Bethesda Metro Center, 7400 Wisconsin Avenue, Bethesda, MD 20814 which was published in the Federal Register on October 01, 2013, 78 FR 60294.

The meeting notice is amended to change the date of the meeting from Oct. 23-24, 2013 to Nov. 12-13, 2013, from the Hyatt Regency Hotel to the Sheraton Silver Spring Hotel, 8777 Georgia Avenue, Silver Spring, MD 20910. The meeting is closed to the public.

Dated: October 25, 2013.
David Clary,
Program Analyst, Office of Federal Advisory Committee Policy.

[FR Doc. 2013-25673 Filed 10-29-13; 8:45 am]

BILLING CODE 4140-01-P